DEPARTMENT OF LABOR

Employment and Training Administration

[TA-W-85,286; TA-W-85,286A; TA-W-85,286B; TA-W-85,286C; TA-W-85,286D; TA-W-85,286E; TA-W-85,286F; TA-W-85,286G]

United States Steel Corporation, Lorain Tubular Operations, Lorain, OH; United States Steel Corporation, Fairfield Works-Flat Roll Operations, Fairfield-Tubular Operations, Fairfield, AL; et al.; Amended Certification Regarding Eligibility to Apply for Worker Adjustment Assistance

In accordance with Section 223 of the Trade Act of 1974, as amended (“Act”), 19 U.S. C. 2273, the Department of Labor issued a Certification of Eligibility to Apply for Worker Adjustment Assistance on July 2, 2014, applicable to workers and former workers of United States Steel Corporation, Lorain Tubular Operations, Lorain, Ohio. The workers are engaged in activities related to the production of steel tubular products such as pipes.

Information obtained by the Department reveals that the following units operate in conjunction with each other in the production of United States Steel Corporation's tubular products: Lorain Tubular Operations, Lorain, Ohio (TA-W-85,286); Fairfield Works-Flat Roll Operations and Tubular Operations, Fairfield, Alabama (TA-W-85,286A); East Chicago, Indiana (TA-W-85,286B); Lorain Northern Railroad, Lorain, Ohio (TA-W-85,286C); Wheeling Machine Products Division, Pine Bluff, Arkansas (TA-W-85,286D); Gary, Indiana (TA-W-85,286E); Ecorse, Michigan (TA-W-85,286F); and Fairfield Southern Company, Fairfield, Alabama (TA-W-85,286G).

The worker groups include those who are engaged in activities related to production, such as maintenance, administrative support, and safety/security. All buildings, structures, and facilities (such as furnaces and mills) which are part of the “production campus” are included in the respective worker groups.

Based on these findings, the Department is amending this certification to clarify that workers at the above facilities are included. The amended notice applicable to TA-W-85,286 is hereby issued as follows:

“All workers of United States Steel Corporation, Lorain Tubular Operations, Lorain, Ohio (TA-W-85,286); United States Steel Corporation, Fairfield Works-Flat Roll Operations and Fairfield-Tubular Operations, Fairfield, Alabama (TA-W-85,286A); United States Steel Corporation, East Chicago, Indiana (TA-W-85,286B); Lorain Northern Railroad, Lorain, Ohio (TA-W-85,286C); United States Steel Corporation, Wheeling Machine Products Division, Pine Bluff, Arkansas (TA-W-85,286D); United States Steel Corporation, Gary, Indiana (TA-W-85,286E); United States Steel Corporation, Ecorse, Michigan (TA-W-85,286F); and Fairfield Southern Company, Fairfield, Alabama (TA-W-85,286G), who became totally or partially separated from employment on or after May 2, 2013 through July 2, 2016 are eligible to apply for adjustment assistance under Chapter 2 of Title II of the Trade Act of 1974, as amended, and are also eligible to apply for alternative trade adjustment assistance under Section 246 of the Trade Act of 1974, as amended.”

Signed in Washington, DC this 22nd day of May, 2015.
Del Min Amy Chen,
Certifying Officer, Office of Trade Adjustment Assistance.

[FR Doc. 2015-15967 Filed 6-29-15; 8:45 am]

BILLING CODE 4510-FN-P